DEPARTMENT OF COMMERCE

International Trade Administration

[C-357-817]

Final Negative Countervailing Duty Determination: Certain Cold-Rolled Carbon Steel Flat Products From Argentina

AGENCY: Import Administration, International Trade Administration, Department of Commerce.

ACTION: Notice of final negative determination in a countervailing duty investigation.

SUMMARY: The Department of Commerce (“the Department”) has made a final determination that countervailable subsidies are not being provided to producers and exporters of certain cold-rolled carbon steel flat products from Argentina.

EFFECTIVE DATE: October 3, 2002.

FOR FURTHER INFORMATION CONTACT: Suresh Maniam, Andrew McAllister, or Jesse Cortes at (202) 482-0176, (202) 482-1174, or (202) 482-3986, respectively; Import Administration, International Trade Administration, U.S. Department of Commerce, 14th Street and Constitution Avenue, NW, Washington, DC 20230.

SUPPLEMENTARY INFORMATION:

Applicable Statute and Regulations

Unless otherwise indicated, all citations to the statute are references to the provisions effective January 1, 1995, the effective date of the amendments made to the Tariff Act of 1930 (the “Act”) by the Uruguay Round Agreements Act. In addition, unless otherwise indicated, all citations to the Department of Commerce's (the “Department”) regulations are references to the provisions codified at 19 CFR part 351 (April 2001).

Petitioners

The petition in this investigation was filed by Bethlehem Steel Corp., United States Steel LLC., LTV Steel Co., Inc., Steel Dynamics, Inc., National Steel Corp., Nucor Corp., WCI Steel, Inc., and Weirton Steel Corp. (collectively, “the petitioners”).

Case History

Since the publication of the preliminary determination in the Federal Register (see Notice of Preliminary Negative Countervailing Duty Determination and Alignment of Final Countervailing Duty Determination With Final Antidumping Duty Determinations: Certain Cold-Rolled Carbon Steel Flat Products from Argentina, 67 FR 9670 (March 4, 2002) (“Preliminary Determination”)), the following events have occurred:

From March 18, 2002 to March 23, 2002, we conducted a verification of the questionnaire responses submitted by the Government of Argentina (“GOA”) and Siderar Sociedad Anonima Industrial Y Comercial (“Siderar”).

On June 21 and 28, 2002, we received case and rebuttal briefs, respectively, from the petitioners and Siderar/GOA. On July 2, 2002, we held a public hearing at the request of the petitioners with respect to issues specific to this investigation.

With respect to scope, in the preliminary LTFV determinations in the companion cold-rolled steel investigations, the Department preliminarily excluded certain porcelain enameling steel from the scope of these investigations. See Notice of Preliminary Determination of Sales at Less Than Fair Value: Certain Cold-Rolled Carbon Steel Flat Products from Argentina, 67 FR 31181, 31192 (May 9, 2002). On June 13, 2002, we issued a preliminary decision on the remaining 75 scope exclusion requests filed in a number of the on-going cold-rolled steel investigations (see Memorandum to Bernard T. Carreau, dated June 13, 2002, “Preliminary Scope Rulings in the Antidumping Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea” (Preliminary Scope Rulings), which is on file in the Department's Central Records Unit (“CRU”), room B-099 of the main Department building). We gave parties until June 20, 2002, to comment on the Preliminary Scope Rulings, and until June 27, 2002, to submit rebuttal comments. We received comments and/or rebuttal comments from petitioners and respondents from various countries subject to these investigations of cold-rolled steel. In addition, on June 13, 2002, North American Metals Company (an interested party in the Japanese proceeding) filed a request that the Department issue a “correction” for an already excluded product. On July 8, 2002, the petitioners objected to this request.

At the request of multiple respondents, the Department held a public hearing with respect to the Preliminary Scope Rulings on July 1, 2002. The Department's final decisions on the scope exclusion requests are addressed in the “Scope of Investigation” section below.

Scope of Investigation

For purposes of this investigation, the products covered are certain cold-rolled (cold-reduced) flat-rolled carbon-quality steel products. A full description of the scope of this investigation is contained in the “Scope Appendix” attached to the Notice of Correction to Final Determination of Sales at Less Than Fair Value: Certain Cold-Rolled Carbon Steel Flat Products from Australia, 67 FR 52934 (August 14, 2002). For a complete discussion of the comments received on the Preliminary Scope Rulings, see Memorandum to Bernard T. Carreau, dated July 10, 2002, “Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea,” which is on file in the CRU.

Injury Test

Because Argentina is a “Subsidies Agreement Country” within the meaning of section 701(b) of the Act, the U.S. International Trade Commission (“ITC”) is required to determine whether imports of the subject merchandise from Argentina materially injure, or threaten material injury to, a U.S. industry. On November 19, 2001, the ITC published its preliminary determination finding a reasonable indication of material injury or threat of material injury to an industry in the United States by reason of imports of certain cold-rolled carbon steel flat products from Argentina. See Certain Cold-Rolled Steel Products from Argentina, Australia, Belgium, Brazil, China, France, Germany, India, Japan, Korea, Netherlands, New Zealand, Russia, South Africa, Spain, Sweden, Taiwan, Thailand, Turkey, and Venezuela, 66 FR 57985 (November 19, 2001).

Period of Investigation

The period of investigation (“POI”) for which we are measuring subsidies corresponds to Siderar's fiscal year, July 1, 2000 through June 30, 2001.

Analysis of Comments Received

All issues raised in the case and rebuttal briefs by parties to this investigation are addressed in the “Issues and Decision Memorandum” from Richard W. Moreland, Deputy Assistant Secretary, Import Administration to Faryar Shirzad, Assistant Secretary, Import Administration, dated September 23, 2002 (“Decision Memorandum”), which is hereby adopted by this notice. Attached to this notice as Appendix I is a list of the issues which parties have raised and to which we have responded in the Decision Memorandum. Parties can find a complete discussion of all issues raised in this investigation and the corresponding recommendations in this public memorandum which is on file in the CRU. In addition, a complete version of the Decision Memorandum can be accessed directly on the Internet at http://ia.ita.doc.gov/frn/ under the heading “Argentina.” The paper copy and electronic version of the Decision Memorandum are identical in content.

Suspension of Liquidation

In the Preliminary Determination, the total net countervailable subsidy rate was de minimis and, therefore, we did not suspend liquidation. For the instant determination, because the rate remains de minimis, we are not directing the Customs Service to suspend liquidation of certain cold-rolled carbon steel flat products from Argentina.

Notification of the International Trade Commission

In accordance with section 705(d) of the Act, we have notified the International Trade Commission of our determination.

Return or Destruction of Proprietary Information

This notice will serve as the only reminder to parties subject to Administrative Protective Order of their responsibility concerning the return or destruction of proprietary information disclosed under APO in accordance with 19 CFR 351.305(a). Failure to comply is a violation of the APO.

This determination is published pursuant to sections 705(d) and 777(i) of the Act.

Dated: September 23, 2002.
Faryar Shirzad,
Assistant Secretary for Import Administration.

Appendix I—List of Comments and Issues in the Decision Memorandum

Comment 1: Appropriate AUL for Siderar

Comment 2: Application of the “Same Person” Test

Comment 3: Specificity of Benefits Conferred During Privatization Process

Comment 4: Reintegro

Comment 5: Committed Investment

Comment 6: Equity Infusions

Comment 7: Exemption from Value Added Tax on Transfer of Assets

Comment 8: Exemption from Stamp Tax

Comment 9: Assumption of Voluntary Retirement/Severance Liabilities

Comment 10: Assumption of Environmental Liabilities

Comment 11: Appropriate Discount Rate for Non-Recurring Subsidies

[FR Doc. 02-24787 Filed 10-2-02; 8:45 am]

BILLING CODE 3510-DS-P